NUCLEAR REGULATORY COMMISSION

[Docket Nos. 50-373 and 50-374]

Exelon Generation Company, LLC; Notice of Denial of Amendment to Facility Operating License and Opportunity for Hearing

The U.S. Nuclear Regulatory Commission (NRC or the Commission) has denied a request by Exelon Generation Company, LLC (the licensee) for an amendment to Facility Operating Licenses NPF-11 and NPF-12, issued to the licensee for operation of the Lasalle County Station, Unit Nos. 1 and 2, located in LaSalle County, Illinois.

Notice of Consideration of Issuance of this amendment was published in the Federal Register on March 28, 2006 (71 FR 15483).

The purpose of the licensee's amendment request was to revise the technical specifications (TS) to change Surveillance Requirement (SR) 3.7.3.1 which verifies the cooling water temperature supplied to the plant from the core standby cooling system (CSCS) pond (i.e., ultimate heat sink (UHS)) is ≤ 100 °F. Currently, if the temperature of the cooling water supplied to the plant from the CSCS pond is > 100 °F, the UHS must be declared inoperable in accordance with TS 3.7.3. The license amendment request proposed to increase the temperature limit of the cooling water supplied to the plant from the CSCS pond to ≤ 101.5 °F by reducing the temperature measurement uncertainty by replacing the existing thermocouples with higher precision temperature measuring equipment. Should the UHS indicated temperature exceed 101.5 °F, Required Action B.1 would be entered and both units would be placed in Mode 3 within 12 hours and Mode 4 within 36 hours.

The NRC staff has concluded that the licensee's request cannot be granted. The licensee was notified of the Commission's denial of the proposed change by telephone on November 2, 2006.

By 30 days from the date of publication of this notice in the Federal Register, the licensee may demand a hearing with respect to the denial described above. Any person whose interest may be affected by this proceeding may file a written petition for leave to intervene pursuant to the requirements of 10 CFR 2.309.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, MD 20852, Attention: Rulemaking and Adjudications Staff; (3) E-mail addressed to the Office of the Secretary, U.S. Nuclear Regulatory Commission, HEARINGDOCKET@NRC.GOV; or (4) facsimile transmission addressed to the Office of the Secretary, U.S. Nuclear Regulatory Commission, Washington, DC 20555-0001, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov . A copy of the request for hearing and petition for leave to intervene should also be sent to Mr. Bradley J. Fewell, Assistant General Counsel, Exelon Generation Company, LLC, 200 Exelon Way, Kennett Square, PA 19348, attorney for the licensee. For further details with respect to this action, see (1) the application for amendment dated March 13, 2006, as supplemented by letters dated July 13 and August 4, 2006, and (2) the Commission's letter to the licensee dated November 3, 2006.

Documents may be examined, and/or copied for a fee, at the NRC's Public Document Room (PDR), located at One White Flint North, Public File Area O1 F21, 11555 Rockville Pike (first floor), Rockville, Maryland, and will be accessible electronically through the Agencywide Documents Access and Management System's (ADAMS) Public Electronic Reading Room link at the NRC Web site http://www.nrc.gov/reading-rm/adams.html. Persons who do not have access to ADAMS or who encounter problems in accessing documents located in ADAMS should contact the NRC PDR Reference staff by telephone at 1-800-397-4209, (301) 415-4737, or by e-mail to pdr@nrc.gov.

Dated at Rockville, Maryland, this 3rd day of November 2006.
For the Nuclear Regulatory Commission.
Catherine Haney,
Director, Division of Operating Reactor Licensing, Office of Nuclear Reactor Regulation.

[FR Doc. E6-19097 Filed 11-9-06; 8:45 am]

BILLING CODE 7590-01-P